NATIONAL AERONAUTICS AND SPACE ADMINISTRATION

[Notice (09-025)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: March 11, 2009.

FOR FURTHER INFORMATION CONTACT: Linda B. Blackburn, Patent Counsel, Langley Research Center, Mail Code 141, Hampton, VA 23681-2199; telephone (757) 864-3221; fax (757) 864-9190.

NASA Case No. LAR-17528-1: Robotic-Movement Payload Lifter and Manipulator;

NASA Case No. LAR-17593-1: Wireless Damage Location Sensing System;

NASA Case No. LAR-17044-1: Method of Generating X-Ray Diffraction Data for Integral Detection of Twin Defects in Super-Hetero-Epitaxial Materials;

NASA Case No. LAR-17185-1: Epitaxial Growth of Cubic Crystalline Semiconductor Alloys on Basal Plane of Trigonal or Hexagonal Crystal;

NASA Case No. LAR-17381-1: Thermoelectric Materials and Devices;

NASA Case No. LAR-17405-1: Hybrid Bandgap Engineering for Super-Hetero-Epitaxial Semiconductor Materials, and Products Thereof;

NASA Case No. LAR-17553-1: Rhombohedral Cubic Semiconductor Materials on Trigonal Substrate with Single Crystal Properties and Devices Based on Such Materials;

NASA Case No. LAR-17554-1: X-ray Diffraction Wafer Mapping Method for Rhombohedral Super-Hetero-Epitaxy;

NASA Case No. LAR-17576-1: Wave Energy Transmission Apparatus for High-Temperature Environments;

NASA Case No. LAR-17224-1: Aqueous Solution Dispersement of Carbon Nanotubes;

NASA Case No. LAR-17238-1: Carbon Nanotube Electrodes and Method for Fabricating Same for use in Biofuel Cell and Fuel Cell Applications:

NASA Case No. LAR-17608-1: Methodology for Predicting and Optimizing System Parameters for Electrospinning System;

NASA Case No. LAR-17634-1: Dual-Use Transducer for Use with a Boundary-Stiffened Panel and Method of Using the Same.

Dated: March 4, 2009.
Richard W. Sherman,
Deputy General Counsel.

[FR Doc. E9-5111 Filed 3-10-09; 8:45 am]

BILLING CODE 7510-13-P